DEPARTMENT OF HOMELAND SECURITY

Federal Emergency Management Agency

[Docket ID FEMA-2026-0002; Internal Agency Docket No. FEMA-B-2577]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before April 21, 2026.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2577, to David N. Bascom, Acting Director, Engineering and Modeling Division, National Flood Insurance Program, Resilience, FEMA, 400 C Street SW, Washington, DC 20472, or (email) david.bascom@fema.dhs.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience Federal Emergency Management Agency, Department of Homeland Security.

Community | Community map repository address
Worcester County, Massachusetts (All Jurisdictions)
Project: 17-01-0182S Preliminary Date: November 26, 2024 and August 13, 2025
City of Worcester | City Hall, 455 Main Street, Worcester, MA 01608.
Town of Auburn | Town Hall, 104 Central Street, Auburn, MA 01501.
Town of Blackstone | Town Hall, 15 St. Paul Street, Blackstone, MA 01504.
Town of Boylston | Town Hall, 221 Main Street, Boylston, MA 01505.
Town of Douglas | Municipal Center, 29 Depot Street, Douglas, MA 01516.
Town of Grafton | Memorial Municipal Center, 30 Providence Road, Grafton, MA 01519.
Town of Holden | Starbard Building, 1204 Main Street, Holden, MA 01520.
Town of Hopedale | Town Office, 78 Hopedale Street, Hopedale, MA 01747.
Town of Leicester | Town Hall, 3 Washburn Square, Leicester, MA 01524.
Town of Mendon | Town Hall, 20 Main Street, Mendon, MA 01756.
Town of Milford | Town Hall, 52 Main Street, Milford, MA 01757.
Town of Millbury | Town Hall, 127 Elm Street, Millbury, MA 01527.
Town of Millville | Town Hall, 290 Main Street, Millville, MA 01529.
Town of Northbridge | Town Hall, 7 Main Street, Northbridge, MA 01588.
Town of Oxford | Town Hall, 325 Main Street, Oxford, MA 01540.
Town of Paxton | Town Hall, 697 Pleasant Street, Paxton, MA 01612.
Town of Rutland | Town Hall, 250 Main Street, Rutland, MA 01543.
Town of Shrewsbury | Town Hall, 100 Maple Avenue, Shrewsbury, MA 01545.
Town of Sutton | Town Hall, 4 Uxbridge Road, Sutton, MA 01590.
Town of Upton | Town Hall, 1 Main Street, Upton, MA 01568.
Town of Uxbridge | Town Hall, 21 South Main Street, Uxbridge, MA 01569.
Town of Webster | Town Hall, 350 Main Street, Webster, MA 01570.
Town of West Boylston | Town Hall, 140 Worcester Street, West Boylston, MA 01583.
Town of Westborough | Town Hall, 34 West Main Street, Westborough, MA 01581.
Crawford County, Wisconsin and Incorporated Areas
Project: 17-05-0965S Preliminary Date: May 15, 2025
Unincorporated Areas of Crawford County | Crawford County Administration Building, 225 North Beaumont Road, Suite 233, Prairie Du Chien, WI 53821.
Village of Bell Center | Bell Center Village Hall, 430 Bell Center Road, Gays Mills, WI 54631.
Village of Gays Mills | Village Hall, 16381 State Highway 131, Suite 1, Gays Mills, WI 54631.
Village of Soldiers Grove | Village Hall, 102 Passive Sun Drive, Soldiers Grove, WI 54655.
Village of Steuben | Village Hall, 123 Midway Street, Steuben, WI 54657.
Village of Wauzeka | Village Hall, 213 East Front Street #B, Wauzeka, WI 53826.
Vernon County, Wisconsin and Incorporated Areas
Project: 17-05-0965S Preliminary Date: April 30, 2025
Ho-Chunk Nation of Wisconsin | Tribal Office Building, W9814 Airport Road, Black River Falls, WI 54615.
Unincorporated Areas of Vernon County | Vernon County Zoning, Erlandson Office Building, 318 Fairlane Drive, Room 227, Viroqua, WI 54665.
Village of La Farge | Village Hall, 105 West Main Street, La Farge, WI 54639.
Village of Ontario | Village Hall, 205 State Street, Ontario, WI 54651.
Village of Readstown | Village Hall, 116 North 4th Street, Readstown, WI 54652.
Village of Viola | Municipal Office, 106 West Wisconsin Street, Viola, WI 54664.

[FR Doc. 2026-01056 Filed 1-20-26; 8:45 am]

BILLING CODE 9110-12-P